DEPARTMENT OF HEALTH AND HUMAN SERVICES

Centers for Disease Control and Prevention

[60Day-23-23BI; Docket No. CDC-2022-0138]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Research Data Center Data Security Forms for Access to Confidential Data. CDC National Center for Health Statistics (NCHS) plans to collect information from the public for the purpose of evidence building using security forms, along with the corresponding security protocols, that allow NCHS to maintain careful controls on confidentiality and privacy, as required by law.

DATES: Written comments must be received on or before February 10, 2023.

ADDRESSES: You may submit comments, identified by Docket No. CDC-2022-0138 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Research Data Center (RDC) Data Security Forms for Access to Confidential Data—Existing Collection in use without an OMB Control Number—National Center for Health Statistics (NCHS), Centers for Disease Control and Prevention (CDC).

Background and Brief Description

Section 306(b)(4) of the Public Health Service (PHS) Act (42 U.S.C. 242k(b)(4)), as amended, authorizes the Secretary of Health and Human Services (HHS), acting through the National Center for Health Statistics (NCHS), to receive requests for furnishing statistics to the public. NCHS receives requests for statistics from the public through the Standard Application Process (SAP). The public may apply to access confidential data assets held by a Federal statistical agency or unit through the SAP for the purposes of generating statistics and developing evidence. Once an application for confidential data is approved through the SAP, NCHS will collect information to meet its data security requirements through its Data Security Forms. This information collection through the Data Security Forms will occur outside of the SAP. This is a request for approval from OMB to collect information via the Researcher Data Center (RDC) Data Security Forms over the next three years.

As part of a comprehensive data dissemination program, the RDC/NCHS/CDC requires prospective researchers who need access to confidential data to complete a research proposal. Researchers self-select whether they need access to confidential data to answer their research questions. The RDC requires the researcher to complete a research proposal, so NCHS understands the research proposed. The completed proposal is sent to NCHS through the SAP portal for review and adjudication. If the research proposal is approved by NCHS, then the researcher must fill out two of three data security forms. If the researcher will access the data at a RDC, then the “Data Access Form” and the “Designated Agent Form” would need to be completed and returned to NCHS. If the researcher will access the data through the NCHS Virtual Data Enclave (VDE), then the “VDE Data Use Agreement Form” and the “Designated Agent Form” would need to be completed and returned to NCHS.

In order to capture the information needed to adjudicate a researcher's commitment to protect confidential NCHS data, researchers must complete and sign the data security forms. This request allows for both researcher signature and the time per response for a total estimated annual burden total of 110 hours. There is no cost to respondents other than their time to complete the forms.

Estimated Annualized Burden Hours

Type of respondents | Form name | Number of respondents | Number of responses per respondent | Average burden per response (in hrs.) | Total burden (in hrs.)
Researcher | Research Data Center (RDC) Proposal | 110 | 1 | 1 | 110
Total |  |  |  |  | 110

Jeffrey M. Zirger,
Lead, Information Collection Review Office, Office of Scientific Integrity, Office of Science, Centers for Disease Control and Prevention.

[FR Doc. 2022-26889 Filed 12-9-22; 8:45 am]

BILLING CODE 4163-18-P